FEDERAL COMMUNICATIONS COMMISION

Notice of Public Information Collection(s) Being Reviewed by the Federal Communications Commission

May 15, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning whether the proposed collection of information is necessary for the proper performance of the functions of the Commission, including whether the information shall have practical utility; the accuracy of the Commission's burden estimate; ways to enhance the quality, utility, and clarity of the information collected; and ways to minimize the burden of the collection of information on the respondents, including the use of automated collection techniques or other forms of information technology.

DATES: Written comments should be submitted on or before July 22, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to Leslie.Smith@fcc.gov.

FOR FURTHER INFORMATION CONTACT: For additional information or copies of the information collection(s) contact Les Smith at 202-418-0217 or via the Internet at Leslie.Smith@fcc.gov.

SUPPLEMENTARY INFORMATION: OMB Control Number: 3060-0581.

Title: Section 76.503, National Subscriber Limits.

Form Number: N/A.

Type of Review: Extension of currently approved collection.

Respondents: Business or other for-profit entities.

Number of Respondents: 10.

Estimated Time per Response: 1 hour.

Frequency of Response: On occasion reporting requirements.

Total annual burden: 20 hours.

Total Annual Costs: $1,000.

Needs and Uses: 47 CFR 76.503 requires certain filings and certifications. The FCC uses the certification filings to ensure that cable operators do not violate the 30 percent share rule in their acquisitions of additional multi-channel programming providers. Section 76.503, Note 1, certification filings are used by the Commission to verify that limited partners who so certify are not involved in management or operations of the media-related activities of the partnership.

OMB Control Number: 3060-0569.

Title: Section 76.975, Commercial Leased Access Dispute Resolution.

Form Number: N/A.

Type of Review: Extension of a currently approved collection.

Respondents: Business or other for-profit entities.

Number of Respondents: 60.

Estimated Time per Response: 2 to 10 hours.

Frequency of Response: On occasion filing requirement.

Total Annual Burden: 1,320 hours.

Total Annual Costs: $69,000.

Needs and Uses: The information will be used by leased access programmers and will be reviewed by the Commission to resolve leased access disputes.

OMB Control Number: 3060-0611.

Title: Section 74.783, Station Identification.

Form Number: N/A.

Type of Review: Extension of currently approved collection.

Respondents: Business or other for-profit entities; State, Local or Tribal Government.

Number of Respondents: 400.

Estimated Time per Response: 0.166 hours.

Total Annual Burden: 66 hours.

Total Annual Costs: $0.

Needs and Uses: 47 CFR 74.783(e) permits any low power television (LPTV) station to request a four-letter call sign after receiving its construction permit. All initial LPTV construction permits will continue to be issued with a five-character LPTV call sign. LPTV respondents are required to use the on-line electronic system. To enable these respondents to use this on-line system, the Commission eliminated the requirement that holders of LPTV construction permits submit with their call sign requests a certification that the station has been constructed, that physical construction is underway at the transmitter site, or that a firm equipment order has been placed. (All burden associated with call sign requests for the on-line reservation and authorization system are included in information collection 3060-0188.) 47 CFR 74.783(b) requires licensees of television translators whose station identification is made by the television station whose signals are being rebroadcast by the translator, must secure agreement with this television licensee to keep in its file, and available to FCC personnel, the translator's call letters and location, giving the name, address and telephone number of the licensee or service representative to be contacted in the event of malfunction of the translator.

OMB Control Number: 3060-0945

Title: Section 79.2, Accessibility of Programming Providing Emergency Information.

Form Number: N/A.

Type of Review: Extension of currently approved collection.

Respondents: Business or other for-profit entities; Individuals or households; Not-for-profit institutions; and State, local or tribal government.

Number of Respondents: 100.

Estimated Time per Response: 1 to 2 hours.

Frequency of Response: On occasion reporting requirements.

Total Annual Burden: 275 hours.

Total Annual Cost: $5,000.

Needs and Uses: 47 CFR 79.2 requires any broadcast station or multiple video programming distributor (MVPD) that provides local emergency information as part of a regularly scheduled newscast, or as part of a newscast that interrupts regularly scheduled programming, to make the critical details of the information accessible to persons with visual disabilities in the affected local area. In addition, any broadcast station or MVPD that provides emergency information through a crawl or scroll must accompany that information with an aural tone to alert persons with visual disabilities that the station or MVPD is providing this information. Under 47 CFR 79.2(c), a complaint alleging a violation of this section may be transmitted to the FCC by any reasonable means that would best accommodate the complainant's disability. The complaint should include the name of the video programming distributor against whom the complaint is alleged, the date and time of the omission of emergency information, and the type of emergency. The Commission will notify the video programming distributor of the complaint, and the distributor will reply to the complaint within 30 days.

Federal Communications Commission.
Marlene H. Dortch,
Secretary.

[FR Doc. 03-12968 Filed 5-22-03; 8:45 am]

BILLING CODE 6712-01-P